DEPARTMENT OF TRANSPORTATION

Maritime Administration

Maritime Environmental and Technical Assistance (META) Program Workshop on Battery Applications in Maritime Transportation

AGENCY: Maritime Administration, DOT.

ACTION: Notice of public workshop.

SUMMARY: The Maritime Administration (MARAD), in cooperation with Det Norske Veritas-Germanischer Lloyd, American Bureau of Shipping, and The American Society for Testing and Materials, will hold a workshop to share information and gather input related to the application of high-power batteries in maritime transportation. The workshop is being held as part of the Agency's Maritime Environmental and Technical Assistance (META) Program. Information received during the workshop will be used to enhance Agency and maritime industry stakeholders' understanding of the state of technology, potential design requirements for electric powered and hybrid electric vessels, and areas for future research, development and demonstration projects.

DATES: The workshop will be held on December 15 and 16, 2016, from 8:30 a.m. to 5:00 p.m.

ADDRESSES: The event will be held at the Department of Transportation Conference Center, 1200 New Jersey Ave. SE., Washington, DC.

FOR FURTHER INFORMATION CONTACT: Sujit Ghosh, Maritime Administration, Office of Environment at (202) 366-1839 or via email at Sujit.Ghosh@dot.gov.

SUPPLEMENTARY INFORMATION: As additional information becomes available, MARAD will release further details on this event, including the agenda, on its Web page at https://www.marad.dot.gov/environment-and-safety/office-of-environment.

Registration

The meeting will be open to the public and streamed on the web. In order to attend the workshop in-person or to access the Web streaming you must register by emailing us at META@dot.gov. In your email, please indicate whether you would like to attend in-person or via web streaming, provide your full name, business affiliation, business address, telephone, and email address. In addition to the aforementioned required information, Foreign National registrants that plan to attend in-person must also provide their country of citizenship, date of birth, passport number, and passport expiration date. Please complete your registration with MARAD no later than 5:00 p.m. EST, December 2, 2016.

Capacity: Seating will be limited and available on a first-come-first-serve basis.

Arrival and Admission Information

1. Attendees are encouraged to arrive at least thirty minutes prior to the meeting for processing through building security. All attendees must enter through the New Jersey Avenue entrance (West Building—at the corner of New Jersey Avenue SE. and M Street SE.). Anyone exiting the building for any reason will be required to re-enter through the security checkpoint at the New Jersey Avenue Entrance.

2. Due to security requirements, all attendees must bring a Government-issued form of identification (e.g., driver's license) to ensure access to the building. Foreign National attendees must bring their passports with them. To facilitate security screening, all in-person attendees are encouraged to limit bags and other items (e.g., mobile phones, laptops, cameras, etc.) they bring into the building.

3. Due to space limitations, outside videotaping will not be allowed.

4. The Department of Transportation (DOT) and MARAD are not able to offer visitor parking; we suggest that attendees consider using alternative means of transportation to the building. DOT Headquarters/MARAD is served by Metrorail (Navy Yard station), Metro bus, DC Circulator, and taxi service. There are a number of private parking lots near the DOT building, but MARAD cannot guarantee the availability of parking spaces.

5. For information on facilities or services for persons with disabilities, or to request special assistance at the meeting, please contact Tom Thompson, Office of Environment, Maritime Administration, 1200 New Jersey Avenue SE., Washington, DC 20590; (202) 366-6045 as soon as possible.

Authority: 49 CFR 1.93

* * * * *

By Order of the Maritime Administrator.
Dated: November 15, 2016.
T. Mitchell Hudson, Jr.,
Secretary, Maritime Administration.

[FR Doc. 2016-27757 Filed 11-17-16; 8:45 am]

BILLING CODE 4910-81-P